DEPARTMENT OF STATE

Office of the Secretary

[Public Notice 4337]

Amendment of the Restriction on the Use of United States Passports for Travel To, In or Through Iraq

On February 1, 1991, pursuant to the authority of 22 U.S.C. 211a and Executive Order 11295 (31 FR 10603), and in accordance with 22 CFR 51.73(a)(2) and (a)(3), all United States passports, with certain exceptions, were declared invalid for travel to, in, or through Iraq unless specifically validated for such travel. The restriction was originally imposed on the grounds that (1) armed hostilities then were taking place in Iraq and Kuwait and (2) there was an imminent danger to the safety of United States travelers to Iraq. American citizens then residing in Iraq and American professional reporters and journalists on assignment there were exempted from the restriction on the grounds that such exemptions were in the national interest. The restriction has been extended for additional one-year periods since then, and was last extended through February 25, 2004 by Public Notice 4283 of February 25, 2003. (68 FR 8791).

The armed hostilities now taking place in Iraq have increased the danger faced by U.S. citizens in Iraq, and current conditions in Iraq are extremely hazardous for Americans. Nevertheless, in light of U.S. national interests in facilitating the provision of humanitarian and other critical services in support of the Iraqi people, and pursuant to the authorities set forth in 22 U.S.C. 211a, Executive Order 11295, and 22 CFR 51.73, I have decided to amend the restriction on the use of U.S. passports for travel to, in, or through Iraq to exempt from its coverage certain persons providing humanitarian and other critical services in support of the Iraqi people.

Accordingly, Public Notice 4283, published on February 25, 2003 (68 FR 8791) is hereby amended by deleting the penultimate paragraph (beginning with “Accordingly”) and replacing it with the following:

“Accordingly, United States passports shall continue to be invalid for travel to, in, or through Iraq unless specifically validated for such travel under the authority of the Secretary of State. This restriction on the validity of U.S. passports for travel to, in or through Iraq shall not apply to U.S. passports held by (1) persons resident in Iraq since February 1, 1991; (2) professional reporters and journalists on assignment there; (3) persons conducting humanitarian activities, as defined in 31 CFR Section 575.330, through nongovernmental organizations registered with the U.S. Department of the Treasury Office of Foreign Assets Control (OFAC) pursuant to 31 CFR Section 575.527(a); (4) persons conducting humanitarian activities subject to a specific license issued by OFAC; (5) persons conducting humanitarian activities funded by the U.S. Government; (6) personnel of the United Nations and its agencies; or (7) U.S. States Government personnel and contractors on official U.S. Government assignment in Iraq.”

This Public Notice amending Public Notice Number 4283 shall be effective from the date it is published in the Federal Register and shall expire at midnight on February 25, 2004, unless sooner extended or revoked by Public Notice.

Dated: April 11, 2003.
Colin L. Powell,
Secretary of State, Department of State.

[FR Doc. 03-9498 Filed 4-15-03; 8:45 am]

BILLING CODE 4710-10-P